DEPARTMENT OF HEALTH AND HUMAN SERVICES

Centers for Disease Control and Prevention

[30DAY-43-02]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 498-1210. Send written comments to CDC, Desk Officer, Human Resources and Housing Branch, New Executive Office Building, Room 10235, Washington, DC 20503. Written comments should be received within 30 days of this notice.

Proposed Project: Evaluation of Worker Notification Program—New—The National Institute for Occupational Safety and Health (NIOSH), Centers for Disease Control and Prevention (CDC). The mission of NIOSH is to promote safety and health at work for all people through research and prevention. NIOSH routinely notifies subjects about the results of epidemiologic studies and the implications of the results. The overall purpose of the proposed project is to gain insight into the effectiveness of NIOSH worker notification, in order to improve the quality and usefulness of the Institute's worker notification activities. Researchers from the NIOSH Division of Surveillance, Hazard Evaluations and Field Studies (DSHEFS) propose to provide notified workers with a Reader Response Form as an evaluation instrument for routinely assessing individual letter notification materials sent to them by NIOSH.

The results of this ongoing evaluation activity will be used to refine notification activities by standardizing and streamlining written notification materials, and to develop materials which are more readable, understandable, and informative to notified workers, their families, and other stakeholders. The findings from these evaluations may also allow the NIOSH worker notification program to help alleviate any negative impacts and enhance any positive impacts of risk communications.

The objective of the Reader Response Form, therefore, is to provide a structured reporting form which will capture the recipients' responses concerning the effectiveness of the NIOSH notification efforts and their impact on workers and other stakeholders.

The average number of letter-type notifications is estimated at 8,000 per year. Each form is estimated to take less than 10 minutes to complete. The annual burden for this data collection is 1,333 hours.

Respondents | Number of respondents | Number of responses/respondent | Avg. burden per response (in hours)
Reader Response Form | 8000 | 1 | 10/60

Dated: August 9, 2002.
Nancy E. Cheal,
Acting Associate Director for Policy, Planning and Evaluation, Centers for Disease Control and Prevention.

[FR Doc. 02-20930 Filed 8-16-02; 8:45 am]

BILLING CODE 4163-18-P